DEPARTMENT OF TRANSPORTATION

Federal Aviation Administration

[Docket No. FAA-2021-0802]

Agency Information Collection Activities: Requests for Comments; Clearance of Renewed Approval of Information Collection: Training and Qualification Requirements for Check Airmen and Flight Instructors

AGENCY: Federal Aviation Administration (FAA), DOT.

ACTION: Notice and request for comments.

SUMMARY: In accordance with the Paperwork Reduction Act of 1995, FAA invites public comments about our intention to request the Office of Management and Budget (OMB) approval to renew an information collection. The collection involves the reporting requirements to ensure the check pilots and instructors are adequately trained and checked/evaluated to ensure they are capable and competent to perform the duties and responsibilities required by the air carrier to meet the regulations. Experienced pilots who would otherwise qualify as flight instructors or check airmen, but who may not medically eligible to hold the requisite medical certificate are mandated to keep records that may be inspected by the FAA to certify eligibility to perform flight instructor or check airmen functions.

DATES: Written comments should be submitted by November 8, 2021.

ADDRESSES: Please send written comments:

By Electronic Docket: www.regulations.gov (Enter docket number into search field).

By mail: Sheri A. Martin, Federal Aviation Administration, Safety Standards, AFS-200 Division, 777 S Aviation Blvd., Suite 150, El Segundo, CA 90245.

By fax: 424-405-7218.

FOR FURTHER INFORMATION CONTACT: Kevin M. Donohue by email at: kevin.donohue@faa.gov; phone: 316-941-1223

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0600.

Title: Training and Qualification Requirements for Check Airmen and Flight Instructors.

Form Numbers: There are no forms associated with this collection of information.

Type of Review: Renewal of an information collection.

Background: Federal Aviation Regulations (FAR) parts 121.411(d), 121.412(d), 135.337(d), and 135.338(d) require the collection of this data. This collection is necessary to insure that instructors and check airmen have completed necessary training and checking required to perform instructor and check airmen functions.

Respondents: There are approximately 15,925 check airmen and flight instructors.

Frequency: Information is collected on occasion.

Estimated Average Burden per Response: 15 seconds.

Estimated Total Annual Burden: 66 hours.

Issued in Washington, DC, on September 2, 2021.
Sheri Martin,
Management and Program Analyst, FAA, Safety Standards, AFS-200 Division.

[FR Doc. 2021-19360 Filed 9-7-21; 8:45 am]

BILLING CODE 4910-13-P